DEPARTMENT OF COMMERCE

International Trade Administration

[A-570-887]

Notice of Postponement of Preliminary Antidumping Duty Determination: Tetrahydrofurfuryl Alcohol from the People's Republic of China

AGENCY: Import Administration, International Trade Administration, Department of Commerce.

ACTION: Notice of Postponement of Preliminary Determination of Antidumping Duty Investigation.

EFFECTIVE DATE: November 20, 2003.

FOR FURTHER INFORMATION CONTACT: Catherine Bertrand or Peter Mueller, Import Administration, International Trade Administration, U.S. Department of Commerce, 14th Street and Constitution Avenue, NW, Washington, DC 20230; telephone: (202) 482-3207, (202) 482-5811, respectively.

SUMMARY: The Department of Commerce (“Department”) is postponing the preliminary determination in the antidumping duty investigation of tetrahydrofurfuryl alcohol (“THFA”) from the People's Republic of China (“PRC”) from November 30, 2003, until no later than January 19, 2004. This postponement is made pursuant to section 733(c)(1)(A) of the Tariff Act of 1930, as amended (“the Act”).

SUPPLEMENTARY INFORMATION:

Postponement of Determination Results

On July 18, 2003, the Department published the initiation of the antidumping duty investigations of imports of THFA from the PRC. See Notice of Initiation of Antidumping Duty Investigations: Notice of Initiation of Antidumping Duty Investigation: Tetrahydrofurfuryl Alcohol from the People's Republic of China, 68 FR 42686 (July 18, 2003). The notice of initiation stated that we would make our preliminary determinations for this antidumping duty investigation no later than 140 days after the date of issuance of the initiation (i.e., November 30, 2003).

On October 29, 2003, Petitioner made a timely request pursuant to 19 CFR §351.205(e) for a fifty day postponement of the preliminary determination, or until January 19, 2004. The Petitioner requested postponement of the preliminary determination because it believes additional time is necessary to allow Petitioner to review responses to the supplemental questionnaire, gather and submit publically available information to value the factors of production based on respondent's supplemental questionnaires, and to allow Petitioner to fully participate in the preliminary determination.

For the reasons identified by the Petitioner, and because there are no compelling reasons to deny the request, we are postponing the preliminary determination under section 733(c)(1) of the Act. Therefore, the preliminary determination is now due on January 19, 2004. The deadline for the final determination will continue to be 75 days after the date of the preliminary determination.

This notice is published pursuant to sections 733(f) and 777(i) of the Act.

Dated: November 14, 2003.
James J. Jochum,
Assistant Secretary for Import Administration.

[FR Doc. 03-29048 Filed 11-19-03; 8:45 am]

BILLING CODE 3510-DS-S